DEPARTMENT OF COMMERCE

National Institute of Standards and Technology

[Docket No.: 001215357-0357-01]

RIN 0693-ZA43

Announcement of Availability of Funds for a Competition—Advanced Technology Program (ATP)

AGENCY: National Institute of Standards and Technology, Technology Administration, Commerce.

ACTION: Notice.

SUMMARY: The Technology Administration's National Institute of Standards and Technology (NIST) announces that it will hold a single fiscal year 2001 Advanced Technology Program (ATP) competition. This single competition will continue ATP's practice of being open to all technology areas, while also capturing the advantage and momentum of focused program planning. Through this single competition strategy, ATP encourages proposals from the many technical teams that have identified synergy between industry needs and ATP funding opportunities, accelerating the pursuit of critical elements of research which were identified in focused program plans. All fiscal year 2001 proposals received will be distributed to technology—specific source evaluation boards in areas such as advanced materials, biotechnology, electronics, information technology, etc. This notice provides general information regarding ATP competitions.

DATES: ATP will begin accepting proposals on January 10, 2001 through 3 p.m. Eastern Time on September 30, 2001. ATP is also issuing a notice in the Commerce Business Daily (CBD) regarding this ATP competition.

ADDRESSES: Information on the ATP may be obtained from the following address: National Institute of Standards and Technology, Advanced Technology Program, 100 Bureau Drive, Stop 4701, Administration Building 101, Room A413, Gaithersburg, MD 20899-4701.

Additionally, information on the ATP is available on the Internet through the World Wide Web (WWW) at http://www.atp.nist.gov.

FOR FURTHER INFORMATION CONTACT: Requests for ATP information, application materials, and/or to have your name added to the ATP mailing list for future mailings may also be made by:

(a) Calling the ATP toll-free “hotline” number at 1-800-ATP-FUND or 1-800-287-3863. You will have the option of hearing recorded messages regarding the status of the ATP or speaking to one of our customer representatives who will take your name and address. If you reach ATP voice mail, please speak distinctly and slowly and spell the words that might cause confusion. Leave your phone number as well as your name and address:

(b) Sending a facsimile (fax) to 301-926-9524 or 301-590-3053; or

(c) Sending electronic mail to atp@nist.gov. Include your name, full mailing address, and phone number.

SUPPLEMENTARY INFORMATION:

Background

The ATP statute originated in the Omnibus Trade and Competitiveness Act of 1988 (Pub. L. 100-418, 15 U.S.C. 278n) and was amended by the American Technology Preeminence Act of 1991 (Pub. L. 102-245). This law has been codified at 15 U.S.C. 278n. The ATP implementing regulations are published at 15 CFR Part 295, as amended. The Catalog of Federal Domestic Assistance (CFDA) number and program title for the ATP are 11.612, Advanced Technology Program (ATP).

The ATP is a competitive cost-sharing program designed for the Federal government to work in partnership with industry to accelerate the development and broad dissemination of challenging, high-risk technologies that offer the potential for significant commercial payoffs and widespread benefits for the nation. This unique government-industry partnership accelerates the development of emerging or enabling technologies leading to revolutionary new products, industrial processes and services that can compete in rapidly changing world markets. The ATP challenges industry to take on higher risk projects with commensurately higher potential payoff to the nation. The ATP provides multi-year funding to single companies and to industry-led joint ventures.

The funding instrument used in ATP awards is a “cooperative agreement.” Through the use of the cooperative agreement, the ATP is designed to foster a government-industry partnership to accomplish a public purpose of support or stimulation. NIST plays a substantial role by providing technical assistance and monitoring the technical work, business progress, and expenditure of Federal funds.

Funding Availability

An estimated $60.7 million in first year funding is available for new awards. The actual number of proposals funded under this competition will depend on the quality of the proposals received and the amount of funding requested in the highest ranked proposals. Outyear funding beyond the first year is contingent on the approval of future Congressional appropriations and satisfactory project performance. The average yearly funding for fiscal year 2000 for a single company was $690,000, and for a joint venture it was $1,500,000.

Eligibility Requirements, Selection Criteria, and Proposal Review Process

The eligibility requirements, selection criteria, and the proposal review process are discussed in detail in the ATP implementing regulations published at 15 CFR Part 295, as amended, and the ATP Proposal Preparation kit dated November 2000.

No less often than every two months or after ATP has received approximately 100 proposals, ATP will group all proposals received during that period and review them as a group, called a “batch.” Each batch will be reviewed under a multiple stage and sequential review process to reduce the amount of information required at one time. Each stage in the process is called a “gate.” There are four gates as follows:

(a) Gate 1—The proposer submits detailed information to address the scientific and technological merit selection criterion. Additionally, the proposer submits preliminary information to address the selection criterion on the potential for broad-based economic benefits. If the information submitted is determined to have high merit, ATP notifies the proposer and requests that the required additional information be submitted for consideration in Gate 2. If a proposal passes Gate 1, the proposer will have two weeks (14 calendar days) from notification to submit the required information in Gate 2.

(b) Gate 2—The proposer submits more detailed information to address the potential for broad-based economic benefits selection criterion and detailed budget data. If the information submitted is determined to have high merit, ATP notifies the proposer of its selection as a semi-finalist and the proposal proceeds to Gate 3.

(c) Gate 3—The proposer is requested to submit required forms and additional documentation, as necessary, and may be invited to NIST for an oral review. If ATP determines, based on all the information received, that the proposal has sufficiently high merit to be funded, the proposal is considered a finalist and proceeds to Gate 4.

(d) Gate 4—Final award processing and issuance, if selected.

Additionally, the following requirements shall apply:

(a) Semi-finalist proposals will be ranked in the following three categories: “Superior,” “Fundable/Deferred,” or “Unfundable.”

(b) Proposers may not submit replacement and/or revised pages and/or documents for any portion of a proposal once that portion has been submitted unless specifically requested by NIST.

(c) Once a proposer has received notification that their proposal will not be funded, the proposer may revise and resubmit that proposal for consideration one additional time within this competition.

Funding Amounts, Award Period and Cost Sharing (Matching) Requirements

(a) A single company can receive up to $2 million in total for R&D activities for up to 3 years. ATP funds may only be used to pay for direct costs for single company recipients. Single company recipients are responsible for funding all of their overhead/indirect costs. Small and medium size companies applying as single company proposers are not required to provide cost-sharing of direct costs, however, they may pay a portion of the direct costs if they wish, in addition to all indirect costs. Large companies applying as single company proposers, however, must cost-share at least 60 percent of the yearly total project costs (direct plus all of the indirect costs). A large company is defined as any business, including any parent company plus related subsidiaries, having annual revenues in excess of $3.037 billion. (Note that this number will likely be updated annually and will be noted in future annual announcements of availability of funds and ATP Proposed Preparation Kits.)

(b) Joint ventures (as defined in 15 CFR 295.2(i)) can receive funds for R&D activities for up to 5 years with no funding limitation other than the announced availability of funds. Joint ventures must cost-share (matching funds) more than 50 percent of the yearly total project costs (direct plus indirect costs). The term matching funds (cost-sharing) is defined in 15 CFR 295.2(l).

(c) Funds derived from Federal sources may not be used to meet the cost-share requirement. Additionally, subcontractors may not contribute towards the cost-share requirement.

Application Forms and Proposal Preparation Kit

A new November 2000 version of the ATP Proposal Preparation Kit is available upon request from the ATP at the address and phone numbers noted in this notice. The Kit is also available on the Internet on the ATP website http://www.atp.nist.gov. Note that the ATP is mailing the Kit to all those individuals whose names are currently on the ATP mailing list. Those individuals need not contact the ATP to request a copy. The Kit contains proposal cover sheets, other required forms, and all the necessary guidelines for developing an ATP proposal. All proposals must be prepared in accordance with the guidelines in the Kit.

Submission of Revised Proposals

A proposer may submit a full proposal that is a revised version of a full proposal submitted to a previous ATP competition. NIST will examine such proposals to determine whether substantial revisions have been made. Where the revisions are determined not to be substantial, NIST reserves the right to score and rank, or where appropriate, to reject, such proposals based on reviews of the previously submitted proposal.

Other Requirements

(a) If a proposal is selected as a semi-finalist, ATP reserves the right to submit a list of questions to the proposer.

(b) There are certain types of projects that ATP will not fund because they are inconsistent with the ATP mission. These include:

(1) Straightforward improvements of existing products or product development.

(2) Projects that are predominately basic research.

(3) Pre-commercial scale demonstration projects where the emphasis is on demonstration that some technology works on a large scale or is economically sound rather than on R&D.

(4) Projects involving military weapons R&D or R&D that is of interest only to some mission agency rather than to the commercial marketplace.

(5) Projects that ATP believes would likely be completed without ATP funds in the same time frame or nearly the same time frame.

(c) Certain costs that may be allowed in Federal financial assistance programs are not eligible for funding under ATP awards. The ATP Proposal Preparation Kit lists these costs.

(d) For joint ventures, no costs shall be incurred under an ATP project by the joint venture members until such time as a joint venture agreement has been executed by all of the joint venture members and approved by NIST. NIST will withhold approval until it determines that a sufficient number of members have signed the joint venture agreement. Costs will only be allowed after the execution of the joint venture agreement and approval by NIST.

(e) Any proposal that includes research involving human subjects, human tissue and/or cells, data or recordings involving human subjects must meet the requirements of the Common Rule for the Protection of Human Subjects, codified for the Department of Commerce at 15 CFR Part 27. In addition, any proposal that includes research on these topics must be in compliance with any statutory requirements imposed upon NIH and other federal agencies regarding these topics, all regulatory policies and guidance adopted by NIH, FDA, and other Federal agencies on these topics, and all Presidential statements of policy on these topics, which are provided in the handbook entitled “Advanced Technology Program Guidelines and Documentation Requirements for Research Involving Human and Animal Subjects.” This handbook may be obtained through any of the options described in the FOR FURTHER INFORMATION CONTACT section of this notice.

The National Institutes of Health recently released their guidelines on the use of human pluripotent stem cells derived from human embryos in research. The ATP is currently reviewing these guidelines. Until ATP has had the opportunity to fully assess the new guidelines and develop appropriate implementing procedures, ATP will not consider proposals that involve human pluripotent stem cells derived from human embryos for funding.

On December 3, 2000, the U.S. Department of Health and Human Services (DHHS) introduced a new Federalwide Assurance of Protection of Human Subjects (FWA). The FWA covers all of an institution's Federally-supported human subjects research, and eliminates the need for other types of Assurance documents. In anticipation of the new Assurance, the Office for Human Research Protections (OHRP) has suspended processing of multiple project assurance (MPA) renewals. All existing MPAs will remain in force until further notice. OHRP will continue to accept new single project assurances (SPAs) until approximately March 1, 2001. For information about FWAs, please see the OHRP website at http://ohrp.osophs.dhhs.gov/whatsnew.htm.

In accordance with the DHHS change, NIST will continue to accept the submission of human subjects protocols that have been approved by Institutional Review Boards (IRBs) possessing a current, valid MPA from DHHS. NIST also will accept the submission of human subjects protocols that have been approved by IRBs possessing a current, valid FWA from DHHS. NIST will not issue an SPA for any IRB reviewing any human subjects protocol proposed to NIST.

Requirements set forth in the handbook entitled “Advanced Technology Program Guidelines and Documentation Requirements for Research Involving Human and Animal Subjects,” shall also apply, with the exception of the guidance on assurances, which has been superceded by the recently published DHHS guidelines discussed in the previous two paragraphs. As stated above, this handbook may be obtained through any of the options in the FOR FURTHER INFORMATION CONTACT section of this notice.

(f) Any proposal that includes research involving vertebrate animals must be in compliance with the National Research Council's “Guide for the Care and Use of Laboratory Animals” which can be obtained from National Academy Press, 2101 Constitution Avenue, NW., Washington, DC, 20055. In addition, such proposals must meet the requirements of the Animal Welfare Act (7 U.S.C. 2131 et seq.), 9 CFR parts 1, 2, and 3, and if appropriate, 21 CFR part 58.

In addition, all requirements as set forth in the handbook entitled “Advanced Technology Program Guidelines and Documentation Requirements for Research Involving Human and Animal Subjects,” shall apply.

(g) The intellectual property provisions found at 15 U.S.C. 278n(d)(11) and 15 CFR 295.8 shall apply to all ATP awards.

(h) Proposers shall provide sufficient funds in the project multi-year budget for a project audit, including each joint venture participant. Subcontractors/subawardees who receive total funding under an ATP project totaling more than $300,000 each are also subject to the audit requirement. A subcontractor/subawardee is defined as an organization which receives a portion of the financial assistance from the recipient/awardee and assists the ATP recipient/awardee in meeting the project goals but does not include procurement of goods and services. It is the responsibility of the recipient to ensure that audits are performed in a timely fashion. Most routine audits can be performed by the recipient's external CPA. However, the Department of Commerce Office of Inspector General (DoC/OIG) and General Accounting Office (GAO) reserve the right to carry out audits as deemed necessary and appropriate. ATP recipients must be willing to submit to audits (e.g., audits of cost-accounting systems, direct-cost expenditures, indirect cost rates, or other periodic reviews) by the Inspectors General or GAO. Periodic project audits shall be performed as follows:

(1) For awards less than 24 months, an audit is required at the end of the project.

(2) For 2-, 3-, or 4-year awards, an audit is required after the first year and at the end of the project.

(3) For 5-year awards, an audit is required after the first year, third year, and at the end of the project.

Budgeting for an audit shall be as follows:

(1) Proposers should allocate funds in their proposal budgets under the “Other” direct cost category for the project audit. For joint ventures, this must be included in each participant's budget, as each participant is responsible for the performance of their own project audit.

(2) If an organization's indirect cost pool includes audit costs, this is acceptable. In these cases, an explanation must be provided in the budget narrative and no audit costs reflected under “Other” costs.

(3) If a cognizant Federal agency auditor is resident within the company, the cognizant Federal agency auditor may perform the audit. In these cases, an explanation must be provided in the budget narrative and no audit costs reflected under “Other” costs or “Indirect Costs.”

Audits of all recipients shall be conducted in accordance with Government Auditing Standards (GAS), issued by the Comptroller General of the United States (the Yellow Book). If an ATP recipient is required to have an audit performed in accordance with OMB Circular A-133, Audits of States, Local Government, and Non-Profit Organizations, the annual Circular A-133 audit is deemed to meet the ATP audit requirement.

If an ATP recipient does not have an annual Circular A-133 audit performed, the recipient should follow the following project audit requirements:

(1) Audits for single company recipients shall be conducted using the NIST Program-Specific Audit Guidelines for Advanced Technology Program (ATP) Cooperative Agreements with Single Companies.

(2) Audits for joint venture recipients shall be conducted using the NIST Program-Specific Audit Guidelines for Advanced Technology Program (ATP) Cooperative Agreements with Joint Ventures.

(i) Indirect costs charged to ATP cooperative agreements or used as cost-sharing must be calculated in accordance with an approved indirect cost proposal. If a recipient has established an indirect cost rate with its cognizant Federal agency (the Federal agency providing the greatest dollars), the recipient must submit a copy of the negotiated agreement to the DoC/OIG for verification. If an indirect cost rate(s) has not been negotiated prior to receiving the award, then an indirect cost rate proposal must be submitted to the recipient's cognizant Federal agency within 90 days from the date of the award. Provisional rates provided by the joint venture participant in the indirect cost proposal may be used until approval is obtained or indirect cost rates are negotiated.

(j) All ATP recipients must agree to adhere to the U.S. Export Administration laws and regulations and shall not export or re-export, directly or indirectly, any technical data created with Government funding under an award to any country for which the United States Government or any agency thereof, at the time of such export or re-export requires an export license or other Governmental approval without first obtaining such licenses or approval and the written clearance of the NIST Grants Officer. The Bureau of Export Administration (BXA) shall conduct an annual review for any relevant information about a proposer and/or Recipient. NIST reserves the right to not issue any award or suspend or terminate an existing award in the event that significant adverse information about a proposer or Recipient is discussed by BXA to the NIST Grants Officer.

(k) Federal Policies and Procedures. Recipients and subrecipients are subject to all Federal laws and Federal and Department of Commerce policies, regulations, and procedures applicable to Federal financial assistance awards as identified in the cooperative agreement award.

(l) Past Performance. Unsatisfactory performance under prior Federal awards may result in a proposal not being considered for funding.

(m) Pre-award Activities. Applicants (or their institutions) who incur any costs prior to an award being made do so solely at their own risk of not being reimbursed by the Government. Notwithstanding any verbal assurance that may have been provided, there is no obligation on the part of NIST to cover pre-award costs.

(n) No Obligation for Future Funding. If a proposal is selected for funding, NIST has no obligation to provide any additional funding in connection with that award. Renewal of an award to increase funding or extend the period of performance is at the total discretion of NIST.

(o) Delinquent Federal Debts. No award of Federal funds shall be made to a proposer or recipient who has an outstanding delinquent Federal debt until either the delinquent account is paid in full, a negotiated repayment schedule is established and at least one payment is received, or other arrangements satisfactory to NIST are made.

(p) Name Check Review. All for-profit and non-profit proposers are subject to a name check review process. Name checks are intended to reveal if any key individuals associated with the proposer have been convicted of or are presently facing criminal charges such as fraud, theft, perjury, or other matters which significantly reflect on the proposer's management, honesty, or financial integrity.

(q) Primary Applicant Certification. All primary proposers (including all joint venture participants) must submit a completed form CD-511, “Certifications Regarding Debarment, Suspension, and Other Responsibility Matters; Drug-Free Workplace Requirements and Lobbying,” and the following explanation is hereby provided:

(1) Nonprocurement Debarment and Suspension. Prospective participants, as defined at 15 CFR 26.105 are subject to 15 CFR part 26, “Nonprocurement Debarment and Suspension” and the related section of the certification form prescribed above applies;

(2) Drug-Free Workplace. Grantees (as defined at 15 CFR part 605) are subject to 15 CFR 26, subpart F, “Governmentwide Requirements for Drug-Free Workplace (Grants)” and the related section of the certification form prescribed above applies;

(3) Anti-Lobbying. Person (as defined at 15 CFR 28.105) are subject to the lobbying provisions of 31 U.S.C. 1352, “Limitations on use of appropriated funds to influence certain Federal contracting and financial transactions,” and the lobbying section of the certification form prescribed above applies to applications/bids for grants, cooperative agreements, and contracts for more than $100,000, and loans and loan guarantees for more than $150,000, or the single family maximum mortgage limit for affected programs, whichever is greater; and

(4) Anti-Lobbying Disclosures. Any proposer that has paid or will pay for lobbying using any funds must submit an SF-LLL, “Disclosure of Lobbying Activities,” as required under 15 CFR part 28, appendix B.

(r) Lower Tier Certification. Recipients shall require proposers/bidders for subgrants, contracts, subcontracts, or other lower tier covered transactions at any tier under the award to submit, if applicable, a completed Form CD-512, “Certifications Regarding Debarment, Suspension, Ineligibility and Voluntary Exclusion—Lower Tier Covered Transactions and Lobbying” and Form SF-LLL, “Disclosure of Lobbying Activities.” Although the CD-512 is intended for the use of primary recipients and should not be transmitted to NIST, the SF-LLL submitted by any tier recipient or subrecipient should be forwarded in accordance with the instructions contained in the award document.

(s) False Statements. A false statement on any application for funding under ATP may be grounds for denial or termination of funds and grounds for possible punishment by a fine or imprisonment as provided in 18 U.S.C. 1001.

(t) Intergovernmental Review. The ATP does not involve the mandatory payment of any matching funds from state or local government and does not affect directly any state or local government. Accordingly, the Department of Commerce has determined that Executive Order 12372, “Intergovernmental Review of Federal Programs” is not applicable to this program.

(u) American-Made Equipment and Products. Proposers are hereby notified that they are encouraged, to the greatest extent practicable, to purchase American-made equipment and products with the funding provided under this program in accordance with Congressional intent.

(v) Paperwork Reduction Act. This notice contains collection of information requirements subject to the Paperwork Reduction Act (PRA), which have been approved by the Office of Management and Budget (OMB Control Nos. 0693-0009, 0348-0046, and 0925-0418). Notwithstanding any other provision of the law, no person is required to respond to, nor shall any person be subject to a penalty for failure to comply with a collection of information, subject to the requirements of the PRA, unless that collection of information displays a currently valid OMB Control Number.

(w) Executive Order Statement. This funding notice was determined to be “not significant” for purposes of Executive Order 12866.

Dated: December 27, 2000.
Raymond G. Kammer,
Director.

[FR Doc. 00-33429 Filed 12-29-00; 8:45 am]

BILLING CODE 3510-13-M